DEPARTMENT OF ENERGY

Federal Energy Regulatory Commission

[Docket No. CP08-450-000]

National Fuel Gas Supply Corporation; Notice of Request Under Blanket Authorization

August 12, 2008.

Take notice that on July 31, 2008, National Fuel Gas Supply Corporation (National Fuel), 6363 Main Street, Williamsville, New York 14221, filed in Docket No. CP08-450-000, an application pursuant to sections 157.205 and 157.211(a)(2) of the Commission's Regulations under the Natural Gas Act (NGA) as amended, to acquire and operate an existing delivery point from Seneca Resources Corporation (Seneca), under National Fuel's blanket certificate issued in Docket No. CP83-4-000,¹ all as more fully set forth in the application which is on file with the Commission and open to the public for inspection.

¹ 21 FERC ¶ 62,298 (1982).

National Fuel proposes to acquire and operate certain lateral facilities from Seneca off its existing Line K in Cattaraugus County, New York. National Fuel states that the facilities consist of a 6-inch diameter natural gas pipeline, two 8-inch diameter natural gas pipelines, and a 4-inch diameter natural gas pipeline comprising approximately 15.33 miles in the Olean, New York, area and compression, metering, pressure regulators, and other appurtenant equipment. National Fuel also states that part of the facilities it would acquire include a delivery point used to serve Dresser-Rand Company. National Fuel further states that it would pay Seneca approximately $285,000 for all of the facilities it would purchase.

Any questions concerning this application may be directed to Antoinetta Mucilli, Senior Attorney, National Fuel Gas Supply Corporation, 6363 Main Street, Williamsville, New York 14221, or via telephone at (716) 857-7067, facsimile number (716) 857-7206, or by e-mail: mucillia@natfuel.com.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866)206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Nathaniel J. Davis, Sr.,
Deputy Secretary.

[FR Doc. E8-19121 Filed 8-18-08; 8:45 am]

BILLING CODE 6717-01-P